DEPARTMENT OF THE INTERIOR

Minerals Management Service

Notice of Workshop

AGENCY: Minerals Management Service (MMS), Interior.

ACTION: Notice of meeting/workshop.

SUMMARY: This notice announces that MMS will hold a workshop with industry, State representatives, and the public to provide guidance on preparing Exploration Plans (EPs) and Development Operations Coordination Documents (DOCDs) that are required by current 30 CFR 250, Subpart B, regulations in the Gulf of Mexico (GOM) OCS Region.

DATES: MMS will hold the workshop on November 25, 2002, from 9:00 a.m. to approximately 12 noon at the location listed in the ADDRESSES section. The workshop may adjourn earlier than 12 noon if presentations are complete and there are no further questions.

ADDRESSES: MMS GOM Regional office (Room 111), 1201 Elmwood Park Blvd., New Orleans, LA 70123

FOR FURTHER INFORMATION CONTACT: Robert Sebastian, GOM OCS Region, (504) 736-2761.

SUPPLEMENTARY INFORMATION: The purpose of the workshop is to explain the change from the old environmental report to the new environmental impact analysis, as covered by Appendix H of Notice to Lessees and Operators (NTL) 2002-G08, for EPs and DOCDs. MMS issued NTL 2002-G08 with an effective date of August 29, 2002, and provided a transition period to November 29, 2002.

On May 17, 2002 we published a proposed rule on Oil and Gas and Sulphur Operations in the Outer Continental Shelf-Plans and Information (67 FR 35372). We posted a companion draft NTL for the GOM OCS Region on our Web site at http://www.mms.gov. While you may express verbal comments on aspects of the Subpart B proposed rule MMS staff will not respond to those comments at the workshop. In other words, no dialog. You must follow-up all comments expressed verbally with written comments to the rulemaking, and they must be submitted before the comment period ends in order for MMS to consider them.

Dated: November 1, 2002.
John V. Mirabella,
Acting Chief, Engineering and Operations Division.

[FR Doc. 02-28611 Filed 11-8-02; 8:45 am]

BILLING CODE 4310-MR-P